DEPARTMENT OF THE INTERIOR

National Park Service

National Register of Historic Places; Notification of Pending Nominations and Related Actions

Nominations for the following properties being considered for listing or related actions in the National Register were received by the National Park Service before November 8, 2008. Pursuant to section 60.13 of 36 CFR Part 60 written comments concerning the significance of these properties under the National Register criteria for evaluation may be forwarded by the United States Postal Service, to the National Register of Historic Places, National Park Service, 1849 C St., NW., 2280, Washington, DC 20240; by all other carriers, National Register of Historic Places, National Park Service, 1201 Eye St., NW., 8th Floor, Washington, DC 20005; or by fax, 202-371-6447. Written or faxed comments should be submitted by December 3, 2008.

J. Paul Loether,
Chief, National Register of Historic Places/National Historic Landmarks Program.

ARIZONA

Yavapai County

North Prescott Townsite Historic District, Between Gurley, Sheldon, Alarcon and Summit Sts., Prescott, 08001188

CONNECTICUT

Fairfield County

Five Mile River Landing Historic District, Rowayton Ave. to Jo's Barn Way, Norwalk, 08001189

New London County

William Clark Company Thread Mill, 21 Pawcatuck Ave., 12 and 22 River Rd., Stonington, 08001190

MASSACHUSETTS

Norfolk County

Medway Village Historic District, Bounded by former New York and Boston railroad right of way, Oakland St., and Charles River, Medway, 08001191

MISSOURI

Callaway County

Oakley Chapel African Methodist Episcopal Church, Co. Rd. 485 at jct. of Co. Rd. 486, Tebbetts, 08001192

Jackson County

Walnut Street Warehouse and Commercial Historic District (Boundary Increase II), 1526, 1524, 1520, 1516-18, 1512-14, and 1508 Grand Blvd., Kansas City, 08001193

MONTANA

Park County

Chicken Creek Farmstead Historic District, 790 Rock Creek Rd. N., Clyde Park, 08001194

OHIO

Clark County

Masonic Temple, 125 W. High St., Springfield, 08001195

Fairfield County

Fairfield County Children's Home, 1743 E. Main St., Lancaster, 08001196

Hamilton County

Pinecroft, 2336 Kipling Ave., Cincinnati, 08001197

Montgomery County

Bull, Jonah, House, 2233 Wayne Ave., Dayton, 08001198

Warren County

King, Ahimaaz, House, 1720 E. King Ave., Kings Mills, 08001199

WASHINGTON

Chelan County

Downtown Wenatchee Historic District, Roughly bounded by Clumbia St., Mission St., N. 1st St., and Kittitas St., Wenatchee, 08001200

Grant County

Reiman, Samuel and Katherine, House, 415 F. St. SW., Quincy, 08001201

WISCONSIN

La Crosse County

Gund Brewing Company Bottling Works, 2130 S. Ave., La Crosse, 08001202

Request for removal has been made for the following resources:

PENNSYLVANIA

Centre County

Bellefonte Academy, 225 E. Bishop St., Bellefonte, 76001617

[FR Doc. E8-27291 Filed 11-17-08; 8:45 am]

BILLING CODE 4310-70-P